DEPARTMENT OF HEALTH AND HUMAN SERVICES

Centers for Disease Control and Prevention

[30Day-25-1317]

Agency Forms Undergoing Paperwork Reduction Act Review

In accordance with the Paperwork Reduction Act of 1995, the Centers for Disease Control and Prevention (CDC) has submitted the information collection request titled “National Healthcare Safety Network (NHSN) COVID-19” OMB Control No. 0920-1317 to the Office of Management and Budget (OMB) for review and approval. CDC previously published a “Proposed Data Collection Submitted for Public Comment and Recommendations” notice on June 4, 2024 to obtain comments from the public and affected agencies. CDC received four comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Healthcare Safety Network (NHSN) COVID-19 (OMB Control No. 0920-1317, Exp. 3/31/2026)—Revision—National Center for Emerging and Zoonotic Infectious Diseases (NCEZID), Centers for Disease Control and Prevention (CDC).

Background and Brief Description

The Division of Healthcare Quality Promotion (DHQP), National Center for Emerging and Zoonotic Infectious Diseases (NCEZID), Centers for Disease Control and Prevention (CDC) collects COVID-19 and respiratory virus data from healthcare facilities in the National Healthcare Safety Network (NHSN) under OMB Control Number 0920-1317. NHSN COVID-19 Modules are designed to standardize the data elements collected across the country regarding the impact of the COVID-19 and other respiratory viruses on healthcare facilities. In collecting standardized data, NHSN provides a vendor-neutral platform and a national lens into the burden hospitals are experiencing in a way that is designed to support the public health response.

NHSN is a platform that exists in nearly all acute-care hospitals, nursing homes, and dialysis facilities in the US and can provide a secure, sturdy infrastructure. The proposed changes in this ICR include revisions made to 10 approved NHSN data collection tools and addition of two new forms, for a total of 12 forms in this package.

CDC requests OMB approval for an estimated 1,752,540 annual burden hours. There is no cost to respondents other than their time to participate.

Estimated Annualized Burden Hours
| Form No. | Form | Number of respondents | Number of responses per respondent | Average burden per response (in minutes)
1 | 57.101 | Hospital Respiratory Data Form (Weekly) (user entry) | 1,148 | 52 | 202
| 57.101 | Hospital Respiratory Data Form (Weekly) (.csv import) | 3,444 | 52 | 29
| 57.101 | Hospital Respiratory Data Form (Weekly) (API) | 1,786 | 52 | 15
2 | 57.102 | Hospital Respiratory Data Form (Daily) (user entry) | 492 | 365 | 58
| 57.102 | Hospital Respiratory Data Form (Daily) (.csv import) | 1,476 | 365 | 29
| 57.102 | Hospital Respiratory Data Form (Daily) (API) | 765 | 365 | 15
3 | 57.140 | National Healthcare Safety Network (NHSN) Registration Form | 11,500 | 1 | 5
4 | 57.155 | Point of Care Testing Results-Manual | 3,135 | 150 | 12
| 57.155 | Point of Care Testing Results-CSV | 3,135 | 150 | 12
5 | 57.216 | Optional Person Level Reporting of Weekly COVID-19 Vaccination for Long-Term Care Residents (manual) | 1,669 | 52 | 62
| 57.216 | Optional Person Level Reporting of Weekly COVID-19 Vaccination for Long-Term Care Residents (.csv) | 167 | 52 | 62
6 | 57.217 | Optional Person Level Reporting of Weekly COVID-19 Vaccination for Healthcare Personnel (manual) | 96 | 52 | 62
| 57.217 | Optional Person Level Reporting of Weekly COVID-19 Vaccination for Healthcare Personnel (.csv) | 106 | 52 | 62
7 | 57.218 | Weekly Respiratory Pathogen and Vaccination Summary for Residents of Long-Term Care Facilities (manual) | 10,500 | 52 | 25
| 57.218 | Weekly Respiratory Pathogen and Vaccination Summary for Residents of Long-Term Care Facilities (csv) | 6,000 | 52 | 20
8 | 57.219 | Healthcare Personnel COVID-19 Vaccination Cumulative Summary (manual) | 11,360 | 12 | 45
| 57.219 | Healthcare Personnel COVID-19 Vaccination Cumulative Summary (.csv) | 4,107 | 12 | 40
9 | 57.220 | Weekly Person Level Respiratory Pathogen and Vaccination for Residents of Long-Term Care Facilities-Long-term Care Facility Component (Manual Entry) | 1,600 | 52 | 60
| 57.220 | Weekly Person Level Respiratory Pathogen and Vaccination for Residents of Long-Term Care Facilities-Long-term Care Facility Component (CSV Entry) | 1,600 | 52 | 40
10 | 57.221 | Healthcare Personnel COVID-19 Person Level Vaccination-Long-Term Care Component (Manual) | 73 | 52 | 60
| 57.221 | Healthcare Personnel COVID-19 Person Level Vaccination-Long-Term Care Component (CSV) | 73 | 52 | 40
| 57.221 | Healthcare Personnel COVID-19 Person Level Vaccination-Healthcare Personnel Safety Component (Manual) | 73 | 12 | 60
| 57.221 | Healthcare Personnel COVID-19 Person Level Vaccination-Healthcare Personnel Safety Component (CSV) | 73 | 12 | 40
11 | 57.509 | Weekly Patient COVID-19 Vaccination Cumulative Summary for Dialysis Facilities-Manual | 107 | 12 | 45
| 57.509 | Weekly Patient COVID-19 Vaccination Cumulative Summary for Dialysis Facilities-.CSV | 2,802 | 12 | 40
12 | 57.510 | COVID-19 Module Dialysis Outpatient Facility-manual | 500 | 12 | 20
| 57.510 | COVID-19 Module Dialysis Outpatient Facility-.csv | 500 | 12 | 10

Jeffrey M. Zirger,
Lead, Information Collection Review Office, Office of Public Health Ethics and Regulations, Office of Science, Centers for Disease Control and Prevention.

[FR Doc. 2024-24301 Filed 10-18-24; 8:45 am]

BILLING CODE 4163-18-P